OFFICE OF SCIENCE AND TECHNOLOGY POLICY

National Science and Technology Council

ACTION: Notice of Public Meeting.

SUMMARY: The National Nanotechnology Coordination Office (NNCO), on behalf of the Nanoscale Science, Engineering, and Technology (NSET) Subcommittee of the Committee on Technology, National Science and Technology Council (NSTC), will hold an “International Symposium on Assessing the Economic Impact of Nanotechnology” on March 27-28, 2012. This symposium will bring together key policy makers, academics, industry representatives, and other interested stakeholders to examine the current status of nanotechnology in the marketplace and discuss metrics that might accurately portray the economic benefit of nanotechnology to individual country economies and the global economy.

The proposed symposium, hosted by the American Association for the Advancement of Science (AAAS) and jointly organized by the Organization for Economic Cooperation and Development (OECD) and the National Nanotechnology Initiative (NNI), aims to explore a wide range of issues that underpin the dynamism of national innovation initiatives and, in particular, how improved estimates of return on investment in nanotechnology may shape future funding opportunities and national policy development.

Dates and Addresses: The symposium will be held at AAAS, 1200 New York Avenue, Washington, DC 20005 on Tuesday, March 27, 2012 from 8:30 a.m. until 6 p.m. and on Wednesday, March 28, 2012 from 8:30 a.m. until 6 p.m. For directions, please visit www.aaas.org.

Registration: Due to space limitations, pre-registration for the workshop is required. Individuals planning to attend the workshop should register online at http://www.nano.gov/syposiumregistration. Written notices of participation by email should be sent to symposium@nnco.nano.gov or mailed to the International Symposium on Assessing the Economic Impact of Nanotechnology, c/o NNCO, 4201 Wilson Blvd., Stafford II, Suite 405, Arlington, VA 22230. Registration is on a first-come, first-served basis until capacity is reached; otherwise registration will close on March 23, 2012 at 5 p.m. EDT.

Those interested in presenting 3-5 minutes of public comments at the meeting should also register at http://www.nano.gov/syposiumregistration. Written or electronic comments should be submitted by email to symposium@nnco.nano.gov until March 23, 2012.

Meeting Accommodations: Individuals requiring special accommodation to access this public meeting should contact Diana Petreski (telephone 703-292-8626) at least ten business days prior to the meeting so that appropriate arrangements can be made.

FOR FURTHER INFORMATION CONTACT: For information regarding this Notice, please contact Diana Petreski or Kristin Roy at National Nanotechnology Coordination Office, by telephone (703) 292-8626) or email (symposium@nnco.nano.gov). Additional information about the meeting, including the agenda, is posted at www.nano.gov.

Ted Wackler,
Deputy Chief of Staff, OSTP.

[FR Doc. 2012-2326 Filed 2-1-12; 8:45 am]

BILLING CODE P